DEPARTMENT OF THE INTERIOR

National Park Service

National Register of Historic Places; Notification of Pending Nominations

Nominations for the following properties being considered for listing in the National Register were received by the National Park Service before February 1, 2003. Pursuant to § 60.13 of 36 CFR part 60 written comments concerning the significance of these properties under the National Register criteria for evaluation may be forwarded by United States Postal Service, to the National Register Historic Places, National Park Service, 1849 C St., NW., 2280, Washington, DC 20240; by all other carriers, National Register of Historic Places, National Park Service, 1201 Eye St., NW, 8th floor, Washington, DC 20005; or by fax, (202) 343-1836. Written or faxed comments should be submitted by March 6, 2003.

Carol D. Shull,
Keeper of the National Register of Historic Places.

COLORADO

Boulder County

Boulder Creek Bridge, (Highway Bridges in Colorado MPS), CO 119 at milepost 39.13, Boulder, 03000103.

IDAHO

Bannock County

Pocatello Westside Residential Historic District, Roughly bounded by N. Arthur Ave., W. Fremont St., N. Grant Ave., and W. Young St., Pocatello, 03000102.

NEBRASKA

Douglas County

Lincoln Highway—Omaha to Elkhorn, (Lincoln Highway in Nebraska MPS), Approx. 3 mi. segment along N. 174 St., Elkhorn, 03000104.

Fillmore County

Fairmont Army Airfield, Approx. 2 mi. S of Fairmont, Fairmont, 03000105.

Knox County

Ponca Tribal Self-Help Community Building Historic District, Approx. 3 mi. SE of Niobrara, Niobrara, 03000106.

Platte County

Behlen, Walter and Ruby, House, 2555 Pershing Rd., Columbus, 03000108.

Sarpy County

Linoma Beach, 17106 S. 255th St., Gretna, 03000107.

NEW HAMPSHIRE

Carroll County

Jackson Falls National Register Historic District, Approx. parts of Jackson Village Rd. and Five Mile Circuit Rd., Jackson, 03000110.

Coos County

Aldrich, Benjamin, Homestead, E terminus of Aldrich Rd., 0.46 E of Piper Hill, Colbrook, 03000109.

[FR Doc. 03-3957 Filed 2-18-03; 8:45 am]

BILLING CODE 4310-70-P